CONSUMER PRODUCT SAFETY COMMISSION

Sunshine Act Meetings

Federal Register Citation of Previous Announcement: Vol. 75, No. 130, Thursday July 8, 2010, page 39209.

Announced Time and Date of Meeting: 9 a.m.-12:30 p.m., Wednesday July 14, 2010.

Changes Meeting: Agenda Item 3 Cancelled.

For a recorded message containing the latest agenda information, call (301) 504-7948.

Contact Person for Additional Information: Todd A. Stevenson, Office of the Secretary, 4330 East West Highway, Bethesda, MD 20814 (301) 504-7923.

Dated: July 12, 2010.
Todd A. Stevenson,
Secretary.

[FR Doc. 2010-17592 Filed 7-15-10; 11:15 am]

BILLING CODE 6355-01-P